DEPARTMENT OF DEFENSE

Office of the Secretary

Reserve Forces Policy Board; Notice of Federal Advisory Committee Meeting

AGENCY: Reserve Forces Policy Board, Office of the Secretary of Defense, DoD.

ACTION: Notice of Federal Advisory Committee Meeting.

SUMMARY: The Department of Defense is publishing this notice to announce that the following Federal Advisory Committee meeting of the Reserve Forces Policy Board (RFPB) will take place. This meeting will be partially-closed to the public.

DATES: Wednesday, March 11, 2015 from 8:20 a.m. to 4:05 p.m.

ADDRESSES: The address is the Pentagon, Room 3E863, Arlington, VA.

FOR FURTHER INFORMATION CONTACT: Mr. Alex Sabol, Designated Federal Officer, (703) 681-0577 (Voice), (703) 681-0002 (Facsimile), Email—Alexander.j.sabol.civ@mail.mil. Mailing address is Reserve Forces Policy Board, 5113 Leesburg Pike, Suite 601, Falls Church, VA 22041. Web site: http://rfpb.defense.gov/. The most up-to-date changes to the meeting can be found on the RFPB's Web site.

SUPPLEMENTARY INFORMATION: This meeting notice is being published under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review and evaluate information related to strategies, policies, and practices designed to improve and enhance the capabilities, efficiency, and effectiveness of the Reserve Components.

Agenda: The RFPB will hold a meeting from 8:20 a.m. until 4:05 p.m. The portion of the meeting from 8:20 a.m. to 11:45 a.m. will be open to the public and will consist of remarks to the RFPB from the Under Secretary of Defense (Personnel &Readiness), the Military Compensation and Retirement Modernization Commission (“the Commission”), two RFPB subcommittees, and Mr. Sergio Pecori, a RFPB member. The Under Secretary of Defense (P&R) Reorganization will provide updates on the Department of Defense Under Secretary of Defense (P&R) reorganization, and the possible impact that it will have on the support of National Guard and Reserve requirements. The Executive Director of the Military Compensation and Retirement Modernization Commission will discuss the findings of facts and recommendations presented in the Commission's final report to the President. Two RFPB subcommittee chairs will provide updates on the work of their respective subcommittee. The Enhancing DoD's Role in the Homeland Subcommittee will provide updates on the Department of Defense support of civil authorities and FEMA requirements. The Supporting & Sustaining Reserve Component Personnel Subcommittee will provide updates on the Survivor Benefits Program, the Post 9/11 GI Bill Change Proposal, and the Duty Status recommendations to the Secretary of Defense. Mr. Sergio Pecori, a RFPB member will discuss his thoughts on the DoD Cyber approach. The portion of the meeting from 11:55 a.m. to 4:05 p.m. will be closed to the public and will consist of remarks to the RFPB from invited speakers that include the Deputy Secretary of Defense; the Commander, U.S. Northern Command; and the Principle Director, Cost Assessment and Program Evaluation; and Brig Gen Whitman, a RFPB member. The Deputy Secretary of Defense will discuss the future strategies for Reserve Component use, highlighting his thoughts on issues impacting reserve organizations, the right balances of Active and Reserve Component forces, and the cost to maintain a strong Reserve Component. The Commander, U.S. Northern Command will discuss the readiness, availability, and use of the National Guard and Reserve within Northern Command, and his thoughts on his command's increased emphasis on homeland security missions fit for Reserve Component members. The Principle Director, Cost Assessment and Program Evaluation will brief the findings and recommendations on the Active Component/Reserve Component cost, force mix, and their use to address national security challenges in a constrained fiscal environment. Brig Gen Whitman, a RFPB member will discuss his observations on his recent deployment to Afghanistan.

Meeting Accessibility: Pursuant to 5 U.S.C. 552b, as amended, and 41 CFR 102-3.140 through 102-3.165, and subject to the availability of space, the meeting is open to the public from 8:20 a.m. to 11:45 a.m. Seating is based on a first-come, first-served basis. All members of the public who wish to attend the public meeting must contact Mr. Alex Sabol, the Designated Federal Officer, not later than 12:00 p.m. on Wednesday, March 4, 2015, as listed in the FOR FURTHER INFORMATION CONTACT section. An escort may be required for attendees without appropriate DoD badges. In accordance with section 10(d) of the FACA, 5 U.S.C. 552b, and 41 CFR 102-3.155, the Department of Defense has determined that the portion of this meeting scheduled to occur from 11:55 a.m. to 4:05 p.m. will be closed to the public. Specifically, the Under Secretary of Defense (Personnel and Readiness), in coordination with the DoD FACA Attorney, has determined in writing that this portion of the meeting will be closed to the public because it is likely to disclose classified matters covered by 5 U.S.C. 552b(c)(1).

Written Statements: Pursuant to 41 CFR 102-3.105(j) and 102-3.140 and section 10(a)(3) of the FACA, interested persons may submit written statements to the RFPB at any time about its approved agenda or the Board's mission. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the RFPB's Web site.

Dated: February 19, 2015.
Aaron Siegel,
Alternate OSD Federal Register Liaison Officer, Department of Defense.

[FR Doc. 2015-03712 Filed 2-23-15; 8:45 am]

BILLING CODE 5001-06-P